DEPARTMENT OF COMMERCE

Foreign-Trade Zones Board

Adopted Adjustments to Alternative Site Framework

SUMMARY: The Foreign-Trade Zones (FTZ) Board has adopted minor adjustments to its practice pertaining to the alternative site framework (ASF) originally adopted by the Board in December 2008 (74 FR 1170, 01/12/09; correction 74 FR 3987, 01/22/09) as an option for grantees to designate and manage their general-purpose FTZ sites. The adjustments stem from a staff proposal published in August 2010 (75 FR 46916, 8/4/2010). The adopted adjustments take into account comments received on the staff proposal.

The comments received on the staff proposal and the FTZ Staff's analysis pertaining to the comments and the proposed adjustments are contained in a staff report available in the “Reading Room” section of the FTZ Board's Web site, which can be accessed via http://www.trade.gov/ftz. The two adjustments proposed by the staff and adopted by the Board are summarized as follows:

(1) Eliminate the site-specific allotment of a given grantee's 2,000-acre activation limit (including for FTZs already reorganized or with applications pending for reorganization under the ASF). Replace the site-specific allotment with a procedure—once the Online FTZ Information System (OFIS) currently under development is available and appropriate training has been provided to grantees—whereby the grantees use the OFIS online system to update information on each site's activated space.

(2) For ASF applications, allow two general options for documentation pertaining to jurisdictions (ordinarily counties) within the service area:

(a) Submitting letters from appropriate county officials acknowledging the proposed inclusion of their counties in the service area of the zone, and presenting their views on the proposal; or,

(b) In the absence of letters from appropriate county officials, submission of evidence that appropriate officials of the affected counties were notified of the proposal and were provided information on how they could submit comments to the FTZ Board regarding the proposal. For this option, a grantee should be required to use standard language provided by the FTZ Board staff, thereby ensuring that clear explanation and instructions were given to appropriate officials of the affected counties.

In the absence of governments at the county level, the publication of local public notice regarding the application should allow a full range of appropriate local public officials to be informed of the application and to submit comments if they wish to do so. However, if a grantee will be relying on the publication of local public notice due to an absence of governments at the county level, the grantee should explain that situation within the body of the “application letter” signed by an authorized grantee official.

In response to a comment received, the FTZ Board has also adopted a recommendation to clarify that a site can be designated as Usage-Driven so long at the site falls within the grantee's service area (i.e., meets the standard general-purpose FTZ adjacency requirement), has appropriate zoning (i.e., can accommodate the types of uses ordinarily associated with general-purpose FTZ activity) and is tied to a single operator's or user's use.

Dated: November 16, 2010.
Andrew McGilvray,
Executive Secretary.

[FR Doc. 2010-29396 Filed 11-19-10; 8:45 am]

BILLING CODE P